ENVIRONMENTAL PROTECTION AGENCY

[EPA-HQ-OPP-2017-0751; FRL-10015-68]

Pesticide Registration Review; Interim Decisions for Several Pesticides; Notice of Availability

AGENCY: Environmental Protection Agency (EPA).

ACTION: Notice.

SUMMARY: This notice announces the availability of EPA's interim and final registration review decisions for the following chemicals: Bacillus thuringiensis plant-incorporated protectants in cotton—Lepidopteran pests, bifenthrin, boscalid, chlorine gas, Coniothyrium species, cyfluthrin and beta-cyfluthrin, cyphenothrin, cyproconazole, deltamethrin, esfenvalerate, ethoxyquin, etoxazole, fenpropathrin, flower oils, fluazifop-P-butyl, Fluopicolide (ID Amendment), Gliocladium species, gonadotropin releasing hormone (GnRH), imiprothrin, MCPA, mecoprop-p, methyl bromide, permethrin, phenol and salt, phenothrin, pinoxaden, prallethrin, pymetrozine, pyraclostrobin, pyraflufen-ethyl, tau-fluvalinate, tefluthrin, terbuthylazine, tetramethrin, thiabendazole and salts, vegetable oils.

FOR FURTHER INFORMATION CONTACT:

For pesticide specific information, contact: The Chemical Review Manager for the pesticide of interest identified in the Table in Unit IV.

For general information on the registration review program, contact: Melanie Biscoe, Pesticide Re-Evaluation Division (7508P), Office of Pesticide Programs, Environmental Protection Agency, 1200 Pennsylvania Ave. NW, Washington, DC 20460-0001; telephone number: (703) 305-7106; email address: biscoe.melanie@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action.

B. How can I access the decision documents and other related information?

The docket for this action, identified by the docket identification (ID) number for the specific pesticide of interest as provided in the Table in Unit IV., is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

II. Background

Registration review is EPA's periodic review of pesticide registrations to ensure that each pesticide continues to satisfy the statutory standard for registration, that is, the pesticide can perform its intended function without unreasonable adverse effects on human health or the environment. As part of the registration review process, the Agency has completed interim decisions for all pesticides listed in the Table in Unit IV. Through this program, EPA is ensuring that each pesticide's registration is based on current scientific and other knowledge, including its effects on human health and the environment.

III. Authority

EPA is conducting its registration review of the chemicals listed in the Table in Unit IV pursuant to section 3(g) of the Federal Insecticide, Fungicide, and Rodenticide Act (FIFRA) and the Procedural Regulations for Registration Review at 40 CFR part 155, subpart C. Section 3(g) of FIFRA provides, among other things, that the registrations of pesticides are to be reviewed every 15 years. Under FIFRA, a pesticide product may be registered or remain registered only if it meets the statutory standard for registration given in FIFRA section 3(c)(5) (7 U.S.C. 136a(c)(5)). When used in accordance with widespread and commonly recognized practice, the pesticide product must perform its intended function without unreasonable adverse effects on the environment; that is, without any unreasonable risk to man or the environment, or a human dietary risk from residues that result from the use of a pesticide in or on food.

IV. What action is the Agency taking?

Pursuant to 40 CFR 155.58, this notice announces the availability of EPA's interim and final registration review decisions for the pesticides shown in the following table. The interim registration review decisions are supported by rationales included in the docket established for each chemical.

Table—Registration Review Interim and Final Decisions Being Issued
Registration review case name and No. | Docket ID No. | Chemical review manager and contact information
Bacillus thuringiensis, Plant-incorporated Protectants in Cotton—Lepidopteran Pests, Case Number 6504 | EPA-HQ-OPP-2016-0475 | Michael Glikes, glikes.michael@epa.gov, (703) 305-6231.
Bifenthrin, Case Number 7402 | EPA-HQ-OPP-2010-0384 | Andrew Muench, muench.andrew@epa.gov, (703) 347-8263.
Boscalid, Case Number 7039 | EPA-HQ-OPP-2014-0199 | Lauren Weissenborn, weissenborn.lauren@epa.gov, (703) 347-8601.
Chlorine gas, Case Number 4022 | EPA-HQ-OPP-2010-0242 | Daniel Halpert, halpert.daniel@epa.gov, (703) 347-0133.
Coniothyrium species, Case Number 6022 | EPA-HQ-OPP-2013-0259 | Daniel Schoeff, schoeff.daniel@epa.gov, (703) 347-0143.
Cyfluthrin and beta-Cyfluthrin, Case Number 7405 | EPA-HQ-OPP-2010-0684 | Michelle Nolan, nolan.michelle@epa.gov, (703) 347-0258.
Cyphenothrin, Case Number 7412 | EPA-HQ-OPP-2009-0842 | Theodore Varns, varns.theodore@epa.gov, (703) 347-8589.
Cyproconazole, Case Number 7011 | EPA-HQ-OPP-2015-0462 | Carolyn Smith, smith.carolyn@epa.gov, (703) 347-8325.
Deltamethrin, Case Number 7414 | EPA-HQ-OPP-2009-0637 | Samantha Thomas, thomas.samantha@epa.gov, (703) 347-0514.
Esfenvalerate, Case Number 7406 | EPA-HQ-OPP-2009-0301 | Carolyn Smith, smith.carolyn@epa.gov, (703) 347-8325.
Ethoxyquin, Case Number 0003 | EPA-HQ-OPP-2014-0780 | Matthew B. Khan, khan.matthew@epa.gov, (703) 347-8613.
Etoxazole, Case 7616 | EPA-HQ-OPP-2014-0133 | Rachel Fletcher, fletcher.rachel@epa.gov, (703) 347-0512.
Fenpropathrin, Case Number 7601 | EPA-HQ-OPP-2010-0422 | Robert Little, little.robert@epa.gov, (703) 347-8156.
Flower Oils, Case Number 8202 | EPA-HQ-OPP-2011-0628 | Cody Kendrick, kendrick.cody@epa.gov, (703) 347-0468.
Fluazifop-P-butyl, Case Number 2285 | EPA-HQ-OPP-2014-0779 | Jonathan Williams, williams.jonathanr@epa.gov, (703) 347-0670.
Fluopicolide (Amendment), Case Number 7055 | EPA-HQ-OPP-2013-0037 | Matthew B. Khan, khan.matthew@epa.gov, (703) 347-8613.
Gliocladium species, Case Number 6020 | EPA-HQ-OPP-2010-0439 | Joseph Mabon, mabon.joseph@epa.gov, (703) 347-0177.
Gonadotropin Releasing Hormones (GnRH), Case Number 7800 | EPA-HQ-OPP-2018-0798 | Jaclyn Pyne, pyne.jaclyn@epa.gov, (703) 347-0455.
Imiprothrin, Case Number 7426 | EPA-HQ-OPP-2011-0692 | Robert Little, little.robert@epa.gov, (703) 347-8156.
MCPA, Case Number 0017 | EPA-HQ-OPP-2014-0180 | Steven R. Peterson, peterson.stevenr@epa.gov, (703) 347-0755.
Mecoprop-p, Case Number 0377 | EPA-HQ-OPP-2014-0361 | Carolyn Smith, smith.carolyn@epa.gov, (703) 347-8325.
Methyl Bromide, Case Number 0335 | EPA-HQ-OPP-2013-0269 | Tiffany Green, green.tiffany@epa.gov, (703) 347-0314.
Permethrin, Case Number 2510 | EPA-HQ-OPP-2011-0039 | Ana Pinto, pinto.ana@epa.gov, (703) 347-8421.
Phenol and Salt, Case Number 4074 | EPA-HQ-OPP-2012-0810 | Peter Bergquist, bergquist.peter@epa.gov, (703) 347-8563.
Phenothrin, Case Number 0426 | EPA-HQ-OPP-2011-0539 | Alexandra Feitel, feitel.alexandra@epa.gov, (703) 347-8631.
Pinoxaden, Case Number 7266 | EPA-HQ-OPP-2015-0603 | Christina Scheltema, scheltema.christina@epa.gov, (703) 308-2201.
Prallethrin, Case Number 7418 | EPA-HQ-OPP-2011-1009 | Marisa Wright, wright.marisa@epa.gov, (703) 347-0463.
Pymetrozine, Case Number 7474 | EPA-HQ-OPP-2013-0368 | Carolyn Smith, smith.carolyn@epa.gov, (703) 347-8325.
Pyraclostrobin, Case Number 7034 | EPA-HQ-OPP-2014-0051 | Rachel Eberius, eberius.rachel@epa.gov, (703) 347-0492.
Pyraflufen-ethyl, Case Number 7259 | EPA-HQ-OPP-2014-0415 | Ana Pinto, pinto.ana@epa.gov, (703) 347-8421.
Tau-fluvalinate, Case Number 2295 | EPA-HQ-OPP-2010-0915 | Alexander Hazlehurst, hazlehurst.alexander@epa.gov, (703) 347-0221.
Tefluthrin, Case Number 7409 | EPA-HQ-OPP-2012-0501 | Carolyn Smith, smith.carolyn@epa.gov, (703) 347-8325.
Terbuthylazine, Case Number 2645 | EPA-HQ-OPP-2010-0453 | Rame Cromwell, cromwell.rame@epa.gov, (703) 308-9068.
Tetramethrin, Case Number 2660 | EPA-HQ-OPP-2011-0907 | Anna Romanovsky, romanovsky.anna@epa.gov, (703) 347-0203.
Thiabendazole and Salts, Case Number 2670 | EPA-HQ-OPP-2014-0175 | Kent Fothergill, fothergill.kent@epa.gov, (703) 347-8299.
Vegetable Oils, Case Number 8201 | EPA-HQ-OPP-2009-0904 | Bibiana Oe, oe.bibiana@epa.gov, (703) 347-8162.

The proposed interim registration review decisions for the chemicals in the table above were posted to the docket and the public was invited to submit any comments or new information. EPA addressed the comments or information received during the 60-day comment period for the proposed interim decisions in the discussion for each pesticide listed in the table. Comments from the 60-day comment period that were received may or may not have affected the Agency's interim decision. Pursuant to 40 CFR 155.58(c), the registration review case docket for the chemicals listed in the Table will remain open until all actions required in the interim decision have been completed.

Background on the registration review program is provided at: http://www.epa.gov/pesticide-reevaluation.

Authority: 7 U.S.C. 136 et seq.

Dated: October 7, 2020.
Mary Reaves,
Acting Director, Pesticide Re-Evaluation Division, Office of Pesticide Programs.

[FR Doc. 2020-23504 Filed 10-22-20; 8:45 am]

BILLING CODE 6560-50-P